DEPARTMENT OF HEALTH AND HUMAN SERVICES

Centers for Disease Control and Prevention

[60 Day-01-30]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Gonococcal Isolate Surveillance Project (GISP) (0920-0307)—Extension—The National Center for HIV, STD, and TB Prevention (NCHSTP), Centers for Disease Control and Prevention (CDC) proposes to continue data collection for the Gonococcal Isolate Surveillance Project (OMB No. 0920-0307). This request is a three-year extension of clearance.

The purposes of the Gonococcal Isolate Surveillance Project (GISP) are (1) to monitor trends in antimicrobial susceptibility of strains of Neisseria gonorrhoeae in the United States and (2) to characterize resistant isolates. GISP provides critical surveillance for antimicrobial resistance, allowing for informed treatment recommendations. GISP was begun in 1986 as a voluntary surveillance project and now involves five regional laboratories and 26 publicly funded sexually transmitted disease (STD) clinics around the country. The STD clinics submit up to 25 gonococcal isolates per month to the regional laboratories, which measure susceptibility to a panel of antibiotics. Limited demographic and clinical information corresponding to the isolates are submitted directly by the clinics to CDC.

Data gathered through GISP are used to alert the public health community to changes in antimicrobial resistance in Neisseria gonorrhoeae which may impact treatment choices, and to guide recommendations made in CDC's STD Treatment Guidelines, which are published periodically.

Under the GISP protocol, clinics are asked to provide 25 isolates per month. However, due to low volume at some sites, clinics submit an average of 17 isolates per clinic per month, providing an average of 88 isolates per laboratory per month. The estimated time for clinic personnel to abstract data is 11 minutes per response. Based on previous laboratory experience in analyzing gonococcal isolates, we estimate 88 gonococcal isolates per laboratory each month. The estimated burden for each participating laboratory is one hour per response. Averaged over 88 isolates per laboratory per month, the estimated time for recording control strain data is 0.34 minutes per response. There is no cost to respondents.

Respondents | No. of respondents | No. of respondents/response | Avg. burden/response (in hrs.) | Total burden (in hrs.)
Laboratory | 5 | 1,056 (12×88) | 1.006 | 5,312
Clinic | 26 | 204 (12×17) | 11/60 | 972
Total | 31 |  |  | 6,284

Dated: April 11, 2001.
Nancy E. Cheal,
Acting Associate Director for Policy, Planning, and Evaluation, Centers for Disease Control and Prevention (CDC).

[FR Doc. 01-9453 Filed 4-16-01; 8:45 am]

BILLING CODE 4163-18-P